DEPARTMENT OF HOUSING AND URBAN DEVELOPMENT

[Docket No. FR-4980-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Audrey C. Ormerod, Department of the Army, Office of the Assistant Chief of Staff for Installation Management, Attn: DAIM-MD, Room 1E677, 600 Army Pentagon, Washington, DC 20310-0600; (703) 601-2520; ENERGY: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; NAVY: Mr. Charles C. Cocks, Department of the Navy, Real Estate Policy Division, Naval Facilities Engineering Command, Washington Navy Yard, 1322 Patterson Ave., SE., Suite 1000, Washington, DC 20374-5065; (202) 685-9200; VA: Ms. Amelia E. McLellan, Director, Real Property Service, Department of Veterans Affairs, 810 Vermont Avenue, NW., Room 419, Washington, DC 20420; (202) 565-5398; (These are not toll-free numbers).

Dated: May 19, 2005.
Mark R. Johnston,
Director, Office of Special Needs, Assistance Programs.

Title V, Federal Surplus Property Program Federal Register Report For 5/27/05

Suitable/Available Properties

Buildings (by State)

Georgia

Bldg. 05955

Fort Benning

Chattachoochee Co: GA 31905-

Landholding Agency: Army

Property Number: 21200520097

Status: Unutilized

Comment: 95 sq. ft., poor condition, most recent use—dispatch, off-site use only

Bldg. 9012

Fort Benning

Chattachoochee Co: GA 31905-

Landholding Agency: Army

Property Number: 21200520098

Status: Unutilized

Comment: 40,442 sq. ft., poor condition, most recent use—enlisted housing, off-site use only

Bldg. 9016

Fort Benning

Chattachoochee Co: GA 31905-

Landholding Agency: Army

Property Number: 21200520101

Status: Unutilized

Comment: 6138 sq. ft., poor condition, most recent use—BN HQ Bldg., off-site use only

Bldg. 9019

Fort Benning

Chattachoochee Co: GA 31905-

Landholding Agency: Army

Property Number: 21200520102

Status: Unutilized

Comment: 7243 sq. ft., poor condition, most recent use—BN HQ Bldg., off-site use only

Bldgs. 9027, 9036, 9044

Fort Benning

Chattachoochee Co: GA 31905-

Landholding Agency: Army

Property Number: 21200520103

Status: Unutilized

Comment: Various sq. ft., poor condition, most recent use—CO HQ Bldg., off-site use only

Bldg. 9100

Fort Benning

Chattachoochee Co: GA 31905-

Landholding Agency: Army

Property Number: 21200520107

Status: Unutilized

Comment: 4875 sq. ft., poor condition, most recent use—BDE HQ Bldg., off-site use only

Bldgs. 9198, 9199

Fort Benning

Chattachoochee Co: GA 31905-

Landholding Agency: Army

Property Number: 21200520108

Status: Unutilized

Comment: 1008 sq. ft., poor condition, most recent use—admin., off-site use only

Bldg. 10642

Fort Benning

Chattachoochee Co: GA 31905-

Landholding Agency: Army

Property Number: 21200520111

Status: Unutilized

Comment: 176 sq. ft., poor condition, most recent use—storage shed, off-site use only

Iowa

Bldg. 00691

Iowa Army Ammo Plant

Middletown Co: Des Moines IA 52638-

Landholding Agency: Army

Property Number: 21200520113

Status: Unutilized

Comment: 2581 sq. ft., presence of asbestos/lead paint, most recent use—residential

New York

Bldg. 3

VA Medical Center

Batavia Co: Genesee NY 14020-

Landholding Agency: VA

Property Number: 97200520001

Status: Unutilized

Comment: 5840 sq. ft., needs rehab, presence of asbestos, most recent use—offices, eligible for Natl Register of Historic Places

Oklahoma

Bldgs. 01276, 01278

Fort Sill

Lawton Co: Comanche OK 73501-5100

Landholding Agency: Army

Property Number: 21200520119

Status: Unutilized

Comment: 1533 & 2700 sq. ft., most recent use—maintenance, off-site use only

Wisconsin

Bldg. 01567

Fort McCoy

Monroe Co: WI 54656-

Landholding Agency: Army

Property Number: 21200520122

Status: Unutilized

Comment: 112 sq. ft. shelter, off-site use only

Suitable/Unavailable Properties

Buildings (by State)

Alabama

Bldg. 25303

Fort Rucker

Dale Co: AL 36362-

Landholding Agency: Army

Property Number: 21200520074

Status: Excess

Comment: 800 sq. ft., most recent use—airfield operations, off-site use only

Bldg. 25304

Fort Rucker

Dale Co: AL 36362-

Landholding Agency: Army

Property Number: 21200520075

Status: Excess

Comment: 1200 sq. ft., poor condition, most recent use—fire station, off-site use only

Arizona

Bldg. 13570

Fort Huachuca

Cochise Co: AZ 85613-7010

Landholding Agency: Army

Property Number: 21200520076

Status: Excess

Comment: 4000 sq. ft., most recent use—storage, off-site use only

Bldg. 22529

Fort Huachuca

Cochise Co: AZ 85613-7010

Landholding Agency: Army

Property Number: 21200520077

Status: Excess

Comment: 2543 sq. ft., most recent use—storage, off-site use only

Bldg. 22541

Fort Huachuca

Cochise Co: AZ 85613-7010

Landholding Agency: Army

Property Number: 21200520078

Status: Excess

Comment: 1300 sq. ft., most recent use—storage, off-site use only

Bldg. 30020

Fort Huachuca

Cochise Co: AZ 85613-7010

Landholding Agency: Army

Property Number: 21200520079

Status: Excess

Comment: 1305 sq. ft., most recent use—storage, off-site use only

Bldg. 30021

Fort Huachuca

Cochise Co: AZ 85613-7010

Landholding Agency: Army

Property Number: 21200520080

Status: Excess

Comment: 144 sq. ft., most recent use—storage, off-site use only

Bldgs. 80709, 80710

Fort Huachuca

Cochise Co: AZ 85613-7010

Landholding Agency: Army

Property Number: 21200520081

Status: Excess

Comment: 1231 sq. ft., most recent use—admin., off-site use only

Bldg. 90203

Fort Huachuca

Cochise Co: AZ 85613-7010

Landholding Agency: Army

Property Number: 21200520082

Status: Excess

Comment: 165 sq. ft., most recent use—storage, off-site use only

Bldg. 90311

Fort Huachuca

Cochise Co: AZ 85613-7010

Landholding Agency: Army

Property Number: 21200520083

Status: Excess

Comment: 1357 sq. ft., most recent use—storage, off-site use only

Colorado

Bldg. 06225

Fort Carson

El Paso Co: CO 80913-4001

Landholding Agency: Army

Property Number: 21200520084

Status: Unutilized

Comment: 24,263 sq. ft., most recent use—admin., off-site use only

Bldg. 06280

Fort Carson

El Paso Co: CO 80913-4001

Landholding Agency: Army

Property Number: 21200520085

Status: Unutilized

Comment: 20597 sq. ft., most recent use—gen. inst., off-site use only

Bldgs. 06281, 06282, 06283

Fort Carson

El Pase Co: CO 80913-4001

Landholding Agency: Army

Property Number: 21200520086

Status: Unutilized

Comment: 19478 sq. ft., most recent use—gen. inst., off-site use only

Georgia

Bldg. 00051

Fort Stewart

Liberty Co: GA 31314-

Landholding Agency: Army

Property Number: 21200520087

Status: Excess

Comment: 3196 sq. ft., most recent use—court room, off-site use only

Bldg. 00052

Fort Stewart

Liberty Co: GA 31314-

Landholding Agency: Army

Property Number: 21200520088

Status: Excess

Comment: 1250 sq. ft., most recent use—admin., off-site use only

Bldg. 00053

Fort Stewart

Liberty Co: GA 31314-

Landholding Agency: Army

Property Number: 21200520089

Status: Excess

Comment: 2844 sq. ft., most recent use—admin., off-site use only

Bldg. 00054

Fort Stewart

Liberty Co: GA 31314-

Landholding Agency: Army

Property Number: 21200520090

Status: Excess

Comment: 4425 sq. ft., most recent use—admin., off-site use only

Bldg. 00451

Fort Stewart

Liberty Co: GA 31314-

Landholding Agency: Army

Property Number: 21200520091

Status: Excess

Comment: 2750 sq. ft., most recent use—exchange service, off-site use only

Bldg. 00106

Fort Benning

Chattachoochee Co: GA 31905—Landholding Agency: Army

Property Number: 21200520092

Status: Unutilized

Comment: 3625 sq. ft., poor condition, most recent use—snack bar, off-site use only

Bldg. 02023

Fort Benning

Chattahoochee Co: GA 31905—Landholding Agency: Army

Property Number: 21200520093

Status: Unutilized

Comment: 6138 sq. ft., poor condition, most recent use—Fh Sr NCO, off-site use only

Bldg. 2750

Fort Benning

Chattachoochee Co: GA 31905—Landholding Agency: Army

Property Number: 21200520094

Status: Unutilized

Comment: 3707 sq. ft., poor condition, most recent use—health clinic, off-site use only

Bldg. 2819

Fort Benning

Chattachoochee Co: GA 31905—Landholding Agency: Army

Property Number: 21200520095

Status: Unutilized

Comment: 40,442 sq. ft., poor condition, off-site use only

Bldg. 2843

Fort Benning

Chattachoochee Co: GA 31905—Landholding Agency: Army

Property Number: 21200520096

Status: Unutilized

Comment: 9000 sq. ft., poor condition, most recent use—auto center, off-site use only

Bldg. 9013

Fort Benning

Chattachoochee Co: GA 31905—Landholding Agency: Army

Property Number: 21200520099

Status: Unutilized

Comment: 40303 sq. ft., poor condition, most recent use—enlisted housing, off-site use only

5 Bldgs.

Fort Benning 9014, 9015, 9018, 9022, 9053

Chattachoochee Co: GA 31905—Landholding Agency: Army

Property Number: 21200520100

Status: Unutilized

Comment: 50620 sq. ft., poor condition, most recent use—enlisted housing, off-site use only

Bldg. 9050

Fort Benning

Chattachoochee Co: GA 31905—Landholding Agency: Army

Property Number: 21200520104

Status: Unutilized

Comment: 9313 sq. ft., poor condition, most recent use—BDE HQ Bldg., off-site use only

Bldg. 9051

Fort Benning

Chattachoochee Co: GA 31905—Landholding Agency: Army

Property Number: 21200520105

Status: Unutilized

Comment: 684 sq. ft., poor condition, most recent use—health clinic, off-site use only

Bldg. 09075

Fort Benning

Chattachoochee Co: GA 31905—Landholding Agency: Army

Property Number: 21200520106

Status: Unutilized

Comment: 1500 sq. ft., poor condition, most recent use—BN HQ Bldg., off-site use only

Bldg. 9234

Fort Benning

Chattachoochee Co: GA 31905—Landholding Agency: Army

Property Number: 21200520109

Status: Unutilized

Comment: 1200 sq. ft., poor condition, most recent use—exchange outlet, off-site use only

Bldgs. 10039, 10041

Fort Benning

Muscogee Co: GA 31905-

Landholding Agency: Army

Property Number: 21200520110

Status: Unutilized

Comment: 2375 sq. ft., poor condition, most recent use—FH JR NCO/ENL, off-site use only

Bldg. 11326

Fort Benning

Muscogee Co: GA 31905-

Landholding Agency: Army

Property Number: 21200520112

Status: Unutilized

Comment: 9602 sq. ft., poor condition, most recent use—FH JR NCO/ENL, off-site use only

Maryland

Bldg. 0001A

Federal Support Center

Olney Co: Montgomery MD 20882-

Landholding Agency: Army

Property Number: 21200520114

Status: Unutilized

Comment: 9000 sq. ft., most recent use—storage

Bldg. 0001C

Federal Support Center

Olney Co: Montgomery MD 20882-

Landholding Agency: Army

Property Number: 21200520115

Status: Unutilized

Comment: 2904 sq. ft., most recent use—mess hall

Bldgs. 00032, 00H14, 00H24

Federal Support Center

Olney Co: Montgomery MD 20882-

Landholding Agency: Army

Property Number: 21200520116

Status: Unutilized

Comment: Various sq. ft., most recent use—storage

Bldgs. 00034, 00H016

Federal Support Center

Olney Co: Montgomery MD 20882-

Landholding Agency: Army

Property Number: 21200520117

Status: Unutilized

Comment: 400/39 sq. ft., most recent use—storage

Bldgs. 00H10, 00H12

Federal Support Center

Olney Co: Montgomery MD 20882-

Landholding Agency: Army

Property Number: 21200520118

Status: Unutilized

Comment: 2160/469 sq. ft., most recent use—vehicle maintenance

Texas

Bldg. 00127

Fort Hood

Bell Co: TX 76544-

Landholding Agency: Army

Property Number: 21200520120

Status: Excess

Comment: 3753 sq. ft., presence of asbestos, most recent use—admin., off-site use only

Bldg. 00131

Fort Hood

Bell Co: TX 76544-

Landholding Agency: Army

Property Number: 21200520121

Status: Excess

Comment: 2250 sq. ft., most recent use—admin., off-site use only

Unsuitable Properties

Buildings (by State)

Illinois

#903 Site 3

FERMILAB

Batavia Co: DuPage IL 60510-

Landholding Agency: Energy

Property Number: 41200520006

Status: Excess

Reason: Extensive deterioration

#951 Site 50

FERMILAB

Batavia Co: DuPage IL 60510-

Landholding Agency: Energy

Property Number: 41200520007

Status: Excess

Reason: Extensive deterioration

#993 Site 65

FERMILAB

Batavia Co: DuPage IL 60510-

Landholding Agency: Energy

Property Number: 41200520008

Status: Excess

Reason: Extensive deterioration

Oregon

Parking Lot

511 NW Broadway

Portland Co: Multnomah OR 97209-

Landholding Agency: GSA

Property Number: 54200520014

Status: Excess

Reason: Within 2000 ft. of flammable or explosive material

GSA Number: 9-G-OR-0721

[FR Doc. 05-10379 Filed 5-26-05; 8:45 am]

BILLING CODE 4210-29-P